Title 3—

The President

Memorandum of November 10, 2005

Determinations Under Section 1106(a) of the Omnibus Trade and Competitiveness Act of 1988—Kingdom of Saudi Arabia

Memorandum for the United States Trade Representative

The Kingdom of Saudi Arabia (Saudi Arabia) is seeking to become a Member of the World Trade Organization (WTO). Saudi Arabia has concluded a bilateral agreement with the United States related to Saudi Arabia's accession to the WTO. Saudi Arabia's commitments under this bilateral agreement with the United States ensure: (1) that all state trading enterprises, as defined in section 1107(6) of the Omnibus Trade and Competitiveness Act of 1988 (the “Act”) (19 U.S.C. 2906(6)), will make (a) purchases that are not for government use and (b) sales in international trade, in accordance with commercial considerations, including price, quality, availability, marketability, and transportation, and (2) that such state trading enterprises will afford U.S. business firms adequate opportunity, in accordance with customary practice, to compete for such purchases and sales.

In accordance with section 1106(a)(1) of the Act (19 U.S.C. 2905(a)(1)), I determine that state trading enterprises account for a significant share of the exports of Saudi Arabia and the goods that compete with imports into Saudi Arabia. Further, I determine that, based on the bilateral agreement that Saudi Arabia has entered into with the United States, information provided and commitments set forth in the Report of the Working Party on the Kingdom of Saudi Arabia's Accession to the WTO, and other information considered in connection with Saudi Arabia's WTO accession negotiations including information in the United States National Energy Policy report, an affirmative determination under section 1106(a)(2) is not warranted.

The determinations under section 1106(a) are intended solely to further the purpose of section 1106 and are not determinative for the purpose of any other statute or regulation.

You are directed to publish this memorandum in the Federal Register.

B

THE WHITE HOUSE,

Washington, November 10, 2005.

[FR Doc. 05-22798

Filed 11-14-05; 11:32 am]

Billing code 3190-01-P